DEPARTMENT OF LABOR

Employment and Training Administration

[TA-W-51,853]

Gentry Mills, Inc., Albemarle, NC; Notice of Termination of Investigation

Pursuant to section 221 of the Trade Act of 1974, as amended, an investigation was initiated on May 22, 2003 in response to a petition filed by a company official on behalf of workers at Gentry Mills, Inc., Albemarle, North Carolina.

The petitioner has requested that the investigation be terminated. Consequently, the investigation has been terminated.

Signed at Washington, DC this 28th day of May 2003.
Richard Church,
Certifying Officer, Division of Trade Adjustment Assistance.

[FR Doc. 03-15467 Filed 6-18-03; 8:45 am]

BILLING CODE 4510-30-P